DEPARTMENT OF HEALTH AND HUMAN SERVICES

National Institutes of Health

Center for Scientific Review; Amended Notice of Meeting

Notice is hereby given of a change in the meeting of the Center for Scientific Review Special Emphasis Panel, Topics in Bacterial Pathogens, March 29, 2023, 10:00 a.m. to 7:00 p.m., National Institutes of Health, 6701 Rockledge Drive, Bethesda, MD 20892, which was published in the Federal Register on March 03, 2023, 88 FR 42 DOC 2023-04410.

This meeting is being amended to change the contact person from Kaushiki Mazumdar, Ph.D., to Michael Bloom, Ph.D., Center for Scientific Review, National Institutes of Health, 6701 Rockledge Drive, Bethesda, MD 20892, (301) 451-0132. The meeting is closed to the public.

Dated: March 16, 2023.
Tyeshia M. Roberson-Curtis,
Program Analyst, Office of Federal Advisory Committee Policy.

[FR Doc. 2023-05786 Filed 3-21-23; 8:45 am]

BILLING CODE 4140-01-P